DEPARTMENT OF COMMERCE

International Trade Administration

[A-583-816]

Certain Stainless Steel Butt-Weld Pipe Fittings From Taiwan: Rescission of Antidumping Duty Administrative Review

AGENCY: Import Administration, International Trade Administration, Department of Commerce.

DATES: Effective Date: October 8, 2009.

SUMMARY: In response to a request from respondent Ta Chen Stainless Pipe Co., Ltd. (“Ta Chen”), the Department of Commerce (“the Department”) initiated an administrate review of the antidumping duty order on certain stainless steel butt-weld pipe fittings from Taiwan. See Initiation of Antidumping and Countervailing Duty Administrative Reviews and Deferral of Administrative Reviews, 74 FR 37690 (July 29, 2009) (“Initiation Notice”). This administrative review covers the period June 1, 2008, through May 31, 2009. We are now rescinding this review due to Ta Chen's withdrawal of its review request.

FOR FURTHER INFORMATION CONTACT: John Drury or Angelica Mendoza, AD/CD Operations, Office 7, Import Administration, International Trade Administration, U.S. Department of Commerce, 14th Street and Constitution Avenue, NW., Washington, DC 20230; telephone: (202) 482-0195 or (202) 482-3019, respectively.

SUPPLEMENTARY INFORMATION:

Background

On June 1, 2009, the Department published in the Federal Register a notice of “Opportunity to Request an Administrative Review” of the antidumping order on certain stainless steel butt-weld pipe fittings from Taiwan for the period June 1, 2008, through May 31, 2009. See Antidumping or Countervailing Duty Order, Finding, or Suspended Investigation; Opportunity to Request Administrative Review, 74 FR 26202 (June 1, 2009).

On June 30, 2009, in accordance with 19 CFR 351.213(b), the Department received a timely request from Ta Chen to conduct an administrative review of its sales during the period of review (“POR”), i.e., June 1, 2008, through May 31, 2009. Ta Chen was the only party to request an administrative review.

On July 29, 2009, the Department published a notice of initiation of the antidumping duty administrative review of certain stainless steel butt-weld pipe fittings from Taiwan. See Initiation Notice, 74 FR 37691 (July 29, 2009).

On September 15, 2009, Ta Chen timely withdrew its request for review.

Rescission of Administrative Review

Pursuant to 19 CFR 351.213(d)(1), the Secretary will rescind an administrative review, in whole or in part, if the parties that requested a review withdraw the request within 90 days of the date of publication of the notice of initiation of the requested review. See 19 CFR 351.213(d)(1). Ta Chen's request is timely, as it falls within 90 days of the publication date of the notice of initiation. Additionally, no other party requested an administrative review of the antidumping duty order on certain stainless steel butt-weld pipe fittings from Taiwan for the period June 1, 2008, through May 31, 2009. Therefore, in response to Ta Chen's withdrawal of its request for review, and pursuant to 19 CFR 351.213(d)(1), the Department hereby rescinds the administrative review of the antidumping duty order on certain stainless steel butt-weld pipe fittings from Taiwan for the period June 1, 2008, through May 31, 2009.

Assessment

The Department will instruct U.S. Customs and Border Protection (“CBP”) to assess antidumping duties on all appropriate entries. Since this review is being rescinded, the antidumping duties shall be assessed at rates equal to the cash deposit of estimated antidumping duties required at the time of entry, or withdrawal from warehouse, for consumption, in accordance with 19 CFR 351.212(c)(1)(i). The Department intends to issue appropriate assessment instructions to CBP 15 days after publication of this rescission notice in the Federal Register.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice serves as a final reminder to parties subject to administrative protection orders (APO) of their responsibility concerning the disposition of proprietary information disclosed under APO in accordance with 19 CFR 351.305(a)(3). Timely written notification of the return/destruction of APO materials or conversion to judicial protective order is hereby requested. Failure to comply with the regulations and terms of an APO is a sanctionable violation.

This notice is issued and published in accordance with sections 751(a)(1) and 777(i)(1) of the Tariff Act of 1930, as amended, 19 CFR 351.213(d)(4).

Dated: October 1, 2009.
John M. Andersen,
Acting Deputy Assistant Secretary for Antidumping and Countervailing Duty Operations.

[FR Doc. E9-24215 Filed 10-7-09; 8:45 am]

BILLING CODE 3510-DS-P